DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitions or any other persons showing a substantial interest in the subject matter of the investigations may request a public hearing, provided such request is filed in writing with the Director, Division of Trade Adjustment Assistance, at the address shown below, not later than September 21, 2001.

Interested persons are invited to submit written comments regarding the subject matter of the investigations to the Director, Division of Trade Adjustment Assistance, at the address shown below, not later than September 21, 2001.

The petitions filed in this case are available for inspection at the Office of the Director, Division of Trade Adjustment Assistance, Employment and Training Administration, U.S. Department of Labor, Room C-5311, 200 Constitution Avenue, NW., Washington, DC 20210.

Signed at Washington, DC this 30th day of July, 2001.
Edward A Tomchick,
Director, Division of Trade Adjustment Assistance.

Appendix
[Petitions instituted on 07/30/2001]
TA-W | Subject firm (petitioners) | Location | Date of petition | Product(s)
39,699 | Sterling Packaging Co. (Co.) | Jeannett, PA | 07/13/2001 | Paperboard Boxes.
39,700 | Priority Finishing Corp. (Wkrs) | Fall River, MA | 07/26/2001 | Dye and Finishing Apparel.
39,701 | Merry Maid Novelties (UNITE) | Bangor, PA | 07/13/2001 | Knit Slacks, Tops and Skirts.
39,702 | Southern Furniture (Wkrs) | Elizabethtown, NC | 07/12/2001 | Wooden Bedroom Furniture.
39,703 | Echo Bay Minerals (Co.) | Battle Mountain, NV | 07/11/2001 | Gold and Silver.
39,704 | Trico Products Corp. (UAW) | Buffalo, NY | 07/12/2001 | Windshield Wiper System.
39,705 | Lincoln Automotive (Co.) | Jonesboro, AR | 07/13/2001 | Lifting Equipment.
39,706 | Thermo King/Ingersol Rand (Wkrs) | Bloomington, MN | 07/16/2001 | Refrigeration Coils.
39,707 | Pillowtex Corporation (Wkrs) | Phenix City, AL | 07/17/2001 | Unpack & Redistribution Kitchen Items.
39,708 | Globe Mettalurgical (Wkrs) | Springfield, OR | 07/02/2001 | Silicon Metal.
39,709 | Gemtron Corporation (Co.) | Clarksville, TN | 07/17/2001 | Decorative Flat Glass.
39,710 | Ogden Manufacturing (Co.) | Albany, WI | 07/12/2001 | Industrial Electrical Heating Elements.
39,711 | Metallurgic Products (GMP) | Ellwood City, PA | 07/18/2001 | Thermocouple.
39,712 | Signet Armorlite (Co.) | San Marcos, CA | 07/17/2001 | Ophthalmic Lenses.
39,713 | J.M. Huber (Wkrs) | Houston, TX | 07/18/2001 | Oil and Gas.
39,714 | American Drilbox (Co.) | Carathersville, MO | 07/18/2001 | Metal Index Box.
39,715 | Ansell Healthcare (Co.) | Red Bank, NJ | 07/20/2001 | Latex Surgeons' Gloves.
39,716 | Michigan Rag (Co.) | Grand Haven, MI | 07/23/2001 | Men and Women's Apparel.
39,717 | Trio Tool and Die (Co.) | Meadville, PA | 07/17/2001 | Tools, Dyes, Molds & Machine Parts.
39,718 | JTR Patterns (Wkrs) | Fall River, MA | 07/13/2001 | Men's, Women's & Children's Sportwear.
39,719 | Philips Enabling Tech (Wkrs) | So. Plainfield, NJ | 07/13/2001 | Light Bulbs.
39,720 | Waukesha Cherry Burrell (Co.) | Louisville, KY | 07/13/2001 | Ice Cream Freezers.
39,721 | Parker Hannifin (USWA) | Goshen, TN | 07/13/2001 | Rubber O-Ring Sealing.
39,722 | Rexnord Corporation (USWA) | Indianapolis, IN | 07/17/2001 | Roller Chain Products.
39,723 | Spring Ford Industries (Co.) | Spring City, PA | 07/19/2001 | T-Shirt and Underwear.
39,724 | L.E. Smith Glass (AFGW) | Mt. Pleasant, PA | 07/08/2001 | Lighting Shades.
39,725 | General Mills (Wkrs) | Carlisle, PA | 07/14/2001 | Juice Beverage.
39,726 | Act Manufacturing (Wkrs) | Corinth, MS | 07/12/2001 | Telephone Products.
39,727 | Malbon, Inc. (Co.) | Hiram, GA | 07/16/2001 | Uniforms.
39,728 | Graphic Controls (Co.) | Cherry Hill, NJ | 07/19/2001 | Catherers.
39,729 | Evenflo Company (Co.) | Jasper, AL | 07/10/2001 | Car Seat Pads, Booster Seat Pads.
39,730 | Neles Automotive USA (Co.) | Houston, TX | 07/13/2001 | Industrial Valves.
39,731 | Matsushita Refrigeration (Co.) | Vonore, TN | 07/16/2001 | Refrigeration Compressors.
39,732 | Innovative Home Products (Co.) | Covington, OH | 07/18/2001 | Garage Door Openers.

[FR Doc. 01-22690 Filed 9-10-01; 8:45 am]

BILLING CODE 4510-30-M